DEPARTMENT OF COMMERCE

National Oceanic and Atmospheric Administration

50 CFR Part 622

[I.D. 092403H]

Fisheries of the Caribbean, Gulf of Mexico, and South Atlantic; Proposed Amendment 13 to the Fishery Management Plan (FMP) for the Shrimp Fishery of the Gulf of Mexico; Notice of Preparation of Environmental Assessment

AGENCY: National Marine Fisheries Service, National Oceanic and Atmospheric Administration (NOAA), Commerce.

ACTION: Notice announcing preparation of an environmental assessment (EA).

SUMMARY: The Gulf of Mexico Fishery Management Council (Council) intends to prepare an EA, in accordance with the National Environmental Policy Act (NEPA), for Amendment 13 to the Shrimp FMP.

FOR FURTHER INFORMATION CONTACT: Phil Steele, telephone: 727-570-5305, fax: 727-570-5583, e-mail: Phil.Steele@noaa.gov.

SUPPLEMENTARY INFORMATION: The proposed actions in Amendment 13 would establish a bycatch reporting methodology, as well as status criteria and benchmarks such as maximum sustainable yield, optimum yield, minimum stock size threshold, and maximum fishing mortality threshold, for penaeid and Royal Red shrimp stocks in the Gulf of Mexico. These actions were originally combined with other actions the Council was evaluating in Amendment 13 to the Shrimp FMP. However, this earlier Amendment 13 had become very complicated with the addition of measures to reduce effort and alternatives for a bycatch quota. The highest priorities were the establishment of status criteria and benchmarks, and development of a standardized bycatch reporting methodology. At the May 2003 meeting, the Council voted to move all other parts of Amendment 13 into Amendment 14. Amendment 14 includes alternatives for vessel permits, effort reduction, bycatch quotas and improvement of collection of effort data.

As some of the requirements being considered in the original Amendment 13 were likely to have significant social and economic impacts under NEPA, a Notice of Intent to prepare a Draft Supplemental Environmental Impact Statement (DSEIS) was published in the Federal Register on August 19, 2002 (67 FR 53769). Once Amendment 14 was created, however, these requirements were moved into the new amendment.

The proposed actions remaining in Amendment 13 are not presently expected to have a significant impact on the human environment. Consequently, an EA will initially be prepared rather than proceeding directly with a DSEIS. If the EA results in a Finding of No Significant Impact (FONSI), the EA and FONSI will be the final environmental documents required by NEPA. If the EA reveals that significant environmental impacts may be reasonably expected to result from the proposed actions, the Council will prepare a DSEIS to further evaluate those impacts.

This document is intended to inform the public of the change from the direct preparation of a DSEIS to the initial preparation of an EA for Amendment 13 to the Shrimp FMP.

Authority: 16 U.S.C. 1801 et seq.

Dated: September 29, 2003.
Bruce C. Morehead,
Acting Director, Office of Sustainable Fisheries, National Marine Fisheries Service.

[FR Doc. 03-25148 Filed 10-2-03; 8:45 am]

BILLING CODE 3510-22-S